DEPARTMENT OF HEALTH AND HUMAN SERVICES

Centers for Disease Control and Prevention

[30Day-07-06BP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Outcomes Data Collection of the National Prevention Information Network—New—National Center for HIV, Hepatitis, STD, and TB Prevention (NCHHSTP), Centers for Disease Control and Prevention (CDC).

Background and Brief Description

The National Center for HIV, Hepatitis, STD, and TB Prevention (NCHHSTP) within the Centers for Disease Control and Prevention (CDC) proposes a survey data collection to assess the CDC National Prevention Information Network's (NPIN) Web site, products and services. The CDC NPIN serves as the U.S. reference, referral, and distribution service for information on HIV/AIDS, STDs, TB and viral Hepatitis. Products and services offered by the CDC NPIN Web site is the primary channel used by the CDC to provide information concerning prevention, treatment, and care of HIV, STD, TB, and viral Hepatitis to its prevention partners, stakeholders, and other constituents.

The CDC NPIN Web site includes several searchable databases that can be used to locate information about testing centers, funding opportunities, upcoming conferences, educational materials, and news. The Web site is a widely used service by the public, with more than 54 million hits and 3 million visits recorded since August 2004. Following enhancements to the website completed in February 2006, 22,886,855 hits and 1,349,318 visits have already been recorded from February to November 2006. In addition to the Web site, consumers can access information and order materials and resources by phone using the NPIN toll-free reference and referral line or electronic mail system. As of January 25, 2007, over 370,000 unique requests for materials have been logged and 4,561,186 materials have been ordered by the public.

The primary purposes of the proposed data collection are to assess CDC NPIN users' satisfaction and perceived quality with the Web site, products, and services; determine the extent to which the users' needs are being met; and identify how the Web site, products, and services can be enhanced to meet the needs of the user.

The evaluation will be accomplished by survey data collection from users of the CDC NPIN Web site and users of CDC NPIN products and services. Organizations that do not have access to the Internet will be administered the survey by phone.

The estimated 5,655 respondents include representatives from government agencies, community-based organizations, advocacy organizations, and various other organizations involved in the prevention and/or treatment of HIV/AIDS, STDs, TB, and/or viral Hepatitis.

There are no costs to respondents other than their time. The total estimated annual burden hours are 2,525.

Estimated Annualized Burden Hours
Form | Type of respondent | Number of respondents | Number of responses per respondent | Average burden per response
NPIN Website User Survey | All NPIN Users (Individuals) | 1,078 | 1 | 13/60
NPIN Products and Services User Survey | Private Sector Organizations State and local government organization | 2,155 222 | 2 2 | 15/60 15/60
| Federal government organization | 94 | 2 | 15/60
| Individual/Households | 1,648 | 2 | 15/60
NPIN Products and Services User Survey (Telephone) | Private Sector Organizations State and local government organization | 239 25 | 2 2 | 15/60 15/60
| Federal government organization | 11 | 2 | 15/60
| Individual/Households | 183 | 2 | 15/60

Dated: September 27, 2007.
Maryam I. Daneshvar,
Acting Reports Clearance Officer, Centers for Disease Control and Prevention.

[FR Doc. E7-19620 Filed 10-3-07; 8:45 am]

BILLING CODE 4163-18-P